DEPARTMENT OF TRANSPORTATION

Pipeline and Hazardous Materials Safety Administration

[Docket No. PHMSA-RSPA-2004-19856]

Pipeline Safety: Issues Related to Mechanical Couplings Used in Natural Gas Distribution Systems

AGENCY: Pipeline and Hazardous Materials Safety Administration (PHMSA), DOT.

ACTION: Notice; Issuance of Advisory Bulletin; Corrections.

SUMMARY: PHMSA published a document in the Federal Register of March 4, 2008, issuing an advisory bulletin concerning failures of mechanical couplings and related appurtenances in natural gas distribution systems. The document described certain affected pipe incorrectly and did not clearly identify the State involved in certain data.

FOR FURTHER INFORMATION CONTACT: Richard Sanders at (405) 954-7214, or by e-mail at richard.sanders@dot.gov; or Max Kieba at (202) 493-0595, or by e-mail at max.kieba@dot.gov.

SUPPLEMENTARY INFORMATION:

Corrections

1. Because of the variations in the nature of the incidents and the approaches taken to them, PHMSA intended to describe separately the incidents and studies done in various states. In order to clarify the separation in the bulletized lists of incidents and studies, in the Federal Register of March 4, 2008, in FR Doc. E8-4155 correct the preamble text by adding a bullet symbol (•) in the following places:

a. On page 11696, in the second column, before the sentence “Between 1980 and 2007, seven incidents occurred in Texas.”

b. On page 11697, in the first column, before the sentence “A number of other studies, tests, and repair, or replacement programs, some of them voluntary, have been conducted in other States.”

2. In the Federal Register of March 4, 2008, in FR Doc. E8-4155, on page 11697, in the second column, in item 4 of the advisory bulletin, correct the description of the affected pipe in the first sentence to read “pipe sizes between ½-inch CTS (Copper Tube Size) and two-inch IPS (Iron Pipe Size)”.

Issued in Washington, DC, on March 20, 2008.
William Gute,
Deputy Associate Administrator for Pipeline Safety.

[FR Doc. E8-6155 Filed 3-25-08; 8:45 am]

BILLING CODE 4910-60-P